DEPARTMENT OF HOMELAND SECURITY

Coast Guard

33 CFR Part 117

[CGD01-05-097]

Drawbridge Operation Regulations: Taunton River, MA

AGENCY: Coast Guard, DHS.

ACTION: Notice of temporary deviation from regulations.

SUMMARY: The Commander, First Coast Guard District, has issued a temporary deviation for the Brightman Street Bridge, at mile 1.8, across the Taunton River between Fall River and Somerset, Massachusetts. Under this temporary deviation the bridge may remain closed from 9 p.m. on December 2, 2005 through 5 a.m. on December 12, 2005. The purpose of this temporary deviation is to facilitate scheduled bridge repairs.

DATES: This deviation is effective from December 2, 2005 through December 12, 2005.

FOR FURTHER INFORMATION CONTACT: John McDonald, Project Officer, First Coast Guard District, at (617) 223-8364.

SUPPLEMENTARY INFORMATION: The Brightman Street Bridge has a vertical clearance in the closed position of 27 feet at mean high water and 31 feet at mean low water. The existing drawbridge operation regulations are listed at 33 CFR 117.619(b).

The owner of the bridge, Massachusetts Highway Department, requested a temporary deviation from the drawbridge operation regulations to facilitate scheduled bridge repairs.

Under this temporary deviation the Brightman Street Bridge may remain closed from 9 p.m. on December 2, 2005 through 5 a.m. on December 12, 2005.

This deviation from the operating regulations is authorized under 33 CFR 117.35, and will be performed with all due speed in order to return the bridge to normal operation as soon as possible.

Dated: October 25, 2005.
Gary Kassof,
Bridge Program Manager, First Coast Guard District.

[FR Doc. 05-21855 Filed 11-1-05; 8:45 am]

BILLING CODE 4910-15-P